DEPARTMENT OF ENERGY

Federal Energy Regulatory Commission

Combined Notice of Filings #1

April 06, 2016.

Take notice that the Commission received the following electric corporate filings:

Docket Numbers: EC10-67-002; EC13-81-001; ER00-980-016; ER15-1434-001.

Applicants: Emera Maine.

Description: Compliance Filing of Emera Maine for Recovery of Transaction-Related Costs for Bangor Hydro District.

Filed Date: 3/31/16.

Accession Number: 20160331-5423.

Comments Due: 5 p.m. ET 4/21/16.

Docket Numbers: EC10-67-003; EC13-81-002; ER95-836-006; ER15-1429-003.

Applicants: Emera Maine.

Description: Compliance Filing of Emera Maine for Recovery of Transaction-Related Costs for Maine Public District.

Filed Date: 3/31/16.

Accession Number: 20160331-5425.

Comments Due: 5 p.m. ET 4/21/16.

Take notice that the Commission received the following electric rate filings:

Docket Numbers: ER16-1320-000.

Applicants: DTE Electric Company.

Description: Emergency Request for Waiver of DTE Electric Company.

Filed Date: 3/31/16.

Accession Number: 20160331-5414.

Comments Due: 5 p.m. ET 4/8/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Nathaniel J. Davis, Sr.,
Deputy Secretary.

[FR Doc. 2016-08595 Filed 4-13-16; 8:45 am]

BILLING CODE 6717-01-P